DEPARTMENT OF EDUCATION

Applications for New Awards; Personnel Development To Improve Services and Results for Children With Disabilities—Preparation of Related Services Personnel Serving Children With Disabilities Who Have High-Intensity Needs

AGENCY: Office of Special Education and Rehabilitative Services, Department of Education.

ACTION: Notice.

SUMMARY: The Department of Education (Department) is issuing a notice inviting applications for new awards for fiscal year (FY) 2024 for Personnel Development to Improve Services and Results for Children with Disabilities—Preparation of Related Services Personnel Serving Children with Disabilities who have High-Intensity Needs, Assistance Listing Number (ALN) 84.325R. This notice relates to the approved information collection under OMB control number 1820-0028.

DATES:

Applications Available: November 16, 2023.

Deadline for Transmittal of Applications: January 16, 2024.

Deadline for Intergovernmental Review: March 15, 2024.

Pre-Application Webinar Information: No later than November 21, 2023, the Office of Special Education and Rehabilitative Services will post details on pre-recorded informational webinars designed to provide technical assistance to interested applicants. Links to the webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Louise Tripoli, U.S. Department of Education, 400 Maryland Avenue SW, Room 4A10, Washington, DC 20202. Telephone: (202) 245-7554. Email: Louise.Tripoli@ed.gov.

If you are deaf, hard of hearing, or have a speech disability and wish to access telecommunications relay services, please dial 7-1-1.

SUPPLEMENTARY INFORMATION:

Full Text of Announcement

I. Funding Opportunity Description

Purpose of Program: The purposes of this program are to (1) help address State-identified needs for personnel preparation in early intervention, special education, related services, and regular education to work with children, including infants, toddlers, and youth, with disabilities; and (2) ensure that those personnel have the necessary skills and knowledge, derived from practices that have been determined through scientifically based research, to be successful in serving those children.

Priorities: This competition includes one absolute priority and, within that absolute priority, one competitive preference priority. In accordance with 34 CFR 75.105(b)(2)(v), the absolute priority is from allowable activities specified in the statute (see sections 662 and 681 of the Individuals with Disabilities Education Act (IDEA) (20 U.S.C. 1462 and 1481)).

Absolute Priority: For FY 2024 and any subsequent year in which we make awards from the list of unfunded applications from this competition, this priority is an absolute priority. Under 34 CFR 75.105(c)(3), we consider only applications that meet this priority.

This priority is:

Preparation of Related Services Personnel Serving Children with Disabilities who have High-Intensity Needs.

Background:

The purpose of this priority is to prepare scholars in related services who are fully credentialed and licensed to serve children, including infants, toddlers, and youth, with disabilities (children with disabilities) who have high-intensity needs. The Department is committed to promoting equity for children with disabilities to access educational resources and opportunities, and a high priority for the Department is to increase the number of related services personnel, including increasing the number of multilingual personnel and personnel from racially and ethnically diverse backgrounds, who provide services to children with disabilities. To support these goals, under this absolute priority, the Department will fund high-quality projects that prepare related services personnel at the bachelor's degree, certification, master's degree, educational specialist degree, or clinical doctoral degree levels for professional practice in a variety of education settings, including natural environments (the home and community settings in which children with and without disabilities participate), early childhood programs, classrooms, schools, and distance learning environments; including increasing the number of multilingual personnel and personnel from racially and ethnically diverse backgrounds. Projects will also prepare such personnel to support each child with a disability who has high-intensity needs in meeting high expectations and to have meaningful and effective collaborations with other providers, families, and administrators.

A shortage of related services personnel persists in all regions of the country and ultimately impedes the ability of children with disabilities to reach their full academic, social, and emotional potential (National Coalition on Personnel Shortages in Special Education, n.d.). In a national survey of Part C State coordinators, 98 percent of respondents indicated that they had shortages of personnel to work in their system, with the top three areas of shortage being speech-language pathologists (83 percent), physical therapists (80 percent), and occupational therapists (70 percent) (IDEA Infant and Toddler Coordinators Association, 2021). Other data substantiates this acute shortage in school-based settings with the majority of school districts reporting that they do not have enough related services personnel to meet the needs of students with disabilities (National Coalition on Personnel Shortages in Special Education, n.d.). These shortages are only expected to increase as the estimated demand for future related services professions is expected to exceed the supply (Bureau of Labor Statistics, 2023). The overall shortage in related services personnel is exacerbated by the substantial shortage of multilingual personnel, personnel with disabilities, and personnel from racially and ethnically diverse backgrounds prepared to enter the workforce (American Physical Therapy Association, 2020; American Speech-Language Hearing Association, 2019; National Association of School Psychologists, 2021). These shortages are of concern, as research indicates that increasing multilingual personnel, personnel with disabilities, and personnel from racially and ethnically diverse backgrounds can have positive impacts on all children. Multilingual children and children of color, with and without disabilities, demonstrate improved academic achievement and behavioral and social-emotional development when they receive services from multilingual personnel and personnel from racially and ethnically diverse backgrounds (Bryan, 2021; Carver-Thomas, 2018).

The need for related services personnel with the knowledge and skills to serve children with disabilities who have high-intensity needs is even greater. To effectively serve children with disabilities who have high-intensity needs, related services personnel require specialized or advanced skills and knowledge to work within a multidisciplinary team, collaboratively design and deliver evidence-based intensive individualized interventions, and provide interventions in person and through distance learning technologies in natural environments, classrooms, and schools that address the needs of these individuals (Boe et al., 2013; Browder et al., 2014; McLeskey & Brownell, 2015).

To enable related services personnel to provide efficient, high-quality, integrated, and equitable services, both in person and through distance learning technologies, personnel preparation programs need to embed content, practices, and extensive field or clinical experiences that are evidence-based and culturally and linguistically responsive into preservice training in early intervention settings, early childhood programs, and schools. Therefore, this priority aims to fund high-quality projects that prepare scholars in related services, including multilingual scholars, scholars with disabilities, and scholars from racially and ethnically diverse backgrounds, who are fully credentialed and licensed to enter the field and serve children with disabilities who have high-intensity needs.

Priority:

The purpose of this priority is to increase the number and improve the quality of related services personnel,¹ including multilingual personnel and personnel from racially and ethnically diverse backgrounds, who are fully credentialed and licensed to serve children with disabilities who have high-intensity needs.² The priority will fund high-quality projects that prepare scholars ³ in related services at the bachelor's degree, certification,⁴ master's degree, educational specialist degree, or clinical doctoral degree levels for professional practice in natural environments, early childhood programs, classrooms, school settings, and in distance learning environments serving children with disabilities who have high-intensity needs.

¹ For the purposes of this priority, “related services” includes the following: speech-language pathology and audiology services; assistive technology services; sign language interpreting services; intervener services; psychological services; applied behavior analysis; physical therapy and occupational therapy; recreation, including therapeutic recreation; artistic and cultural services, including music, art, dance and movement therapy; social work services; counseling services, including rehabilitation counseling; and orientation and mobility services.

² For the purposes of this priority, “high-intensity needs” refers to a complex array of disabilities (e.g., multiple disabilities, significant cognitive disabilities, significant physical disabilities, significant sensory disabilities, significant autism, significant emotional disabilities, or significant learning disabilities, including dyslexia) or the needs of children with these disabilities requiring intensive, individualized intervention(s) (i.e., that are specifically designed to address persistent learning or behavior difficulties, implemented with greater frequency and for a more extended duration than is commonly available in a typical classroom or early intervention setting, or which require personnel to have knowledge and skills in identifying and implementing multiple evidence-based interventions).

³ For the purposes of this priority, “scholar” means an individual who: (a) is pursuing a bachelor's, certification, master's, educational specialist, or clinical doctoral degree in related services; (b) receives scholarship assistance as authorized under section 662 of IDEA (34 CFR 304.3(g)); (c) will be eligible for a license, endorsement, or certification from a State or national credentialing authority following completion of the degree program identified in the application; and (d) will be able to be employed in a position that serves children with disabilities for a minimum of 51 percent of their time or case load.

⁴ For the purposes of this priority, “certification” refers to programs of study for individuals with bachelor's, master's, educational specialist, or clinical doctoral degrees that lead to licensure, endorsement, or certification from a State or national credentialing authority following completion of the degree program that qualifies graduates to teach or provide services to children with disabilities. Programs of study that lead to a certificate of completion awarded from an institution of higher education (IHE), but do not lead to licensure, endorsement, or certification from a State or national credentialing authority, do not qualify.

Note: Projects may include individuals who are not funded as scholars, but are in degree programs (e.g., general education, early childhood education, administration) that are cooperating with the grantee's project. These individuals may participate in the coursework, assignments, field or clinical experiences, and other opportunities required by the scholars' program of study (e.g., speaker series, monthly seminars) if doing so does not diminish the benefit for project-funded scholars (e.g., by reducing funds available for scholar support or limiting opportunities for scholars to participate in project activities).

Note: Projects that prepare scholars from two or more related services degree programs can qualify under this priority. Related services degree programs across more than one institution of higher education (IHE) may partner together within a project. Projects that prepare all scholars to be dually certified, including dually certified in a related service and special education, can qualify under this priority.

Note: Applications that propose to prepare early intervention and special education personnel who do not provide related services are not eligible under this priority.

Note: Applicants under this priority may not submit the same proposal under Personnel Preparation of Special Education, Early Intervention, and Related Services Personnel at Historically Black Colleges and Universities, Tribally Controlled Colleges and Universities, and Other Minority Serving Institutions, ALN 84.325M. Applicants may submit substantively different proposals under ALN 84.325R and ALN 84.325M. The Office of Special Education Programs (OSEP) may fund applications out of rank order based on funding decisions across ALN 84.325R and ALN 84.325M in FY 2024 to ensure that similar personnel preparation projects are not funded within the same IHE across the ALN 84.325R and ALN 84.325M competitions.

Focus Areas:

Within this absolute priority, the Secretary intends to support projects under the following two focus areas: (A) Preparing Related Services Personnel to Serve Infants, Toddlers, and Preschool-Age Children with Disabilities who have High-Intensity Needs; and (B) Preparing Related Services Personnel to Serve School-Age Children with Disabilities who have High-Intensity Needs.

Applicants must identify the specific focus area (i.e., A or B) under which they are applying as part of the competition title on the application cover sheet (SF 424, line 12). Applicants may not submit the same proposal under both Focus Area A and B. However, applicants may submit substantively different proposals for Focus Areas A and B.

Note: OSEP may fund out of rank order high-quality applications to ensure that projects are funded in both Focus Area A and Focus Area B.

Focus Area A: Preparing Related Services Personnel to Serve Infants, Toddlers, and Preschool-Age Children with Disabilities who have High-Intensity Needs. This focus area is for projects that prepare related services personnel to provide services to infants, toddlers, and preschool children with disabilities who have high-intensity needs. In States where the certification age range is other than birth through five, applicants must propose a preparation project that complies with the State's certification requirements for related services personnel to work in early intervention or early childhood special education.

Focus Area B: Preparing Related Services Personnel to Serve School-Age Children with Disabilities who have High-Intensity Needs. This focus area is for projects that prepare related services personnel to work with school-age children with disabilities who have high-intensity needs.

Focus Areas A and B:

Applicants may, but are not required to, use up to the first 12 months of the project period and up to $100,000 awarded in the first budget period for planning, including enhancing an existing program, without enrolling scholars. If an applicant chooses to use the first year for program planning, then the applicant must provide sufficient justification for requesting program planning time and include the goals, objectives, key personnel and necessary collaborators, and intended outcomes of program planning in year one, a description of the proposed strategies and activities to be supported, and a timeline for the work. The proposed strategies may include activities such as—

(1) Updating coursework, group assignments, or extensive and coordinated field or clinical experiences in early intervention settings, early childhood programs, and schools needed to support preparation for related services personnel, including personnel from groups that are underrepresented in the field, including personnel with disabilities, multilingual personnel, and personnel from racially and ethnically diverse backgrounds, serving children with disabilities who have high-intensity needs;

(2) Building capacity (e.g., hiring a field supervisor, providing professional development for faculty and field supervisors) of the project to prepare scholars, including scholars from groups that are underrepresented in the field, including scholars with disabilities, multilingual scholars, and scholars from racially and ethnically diverse backgrounds, to serve children with disabilities with high-intensity needs and their families;

(3) Purchasing needed resources (e.g., additional intervention supplies, technology-based resources, or other specialized equipment to enhance interventions); or

(4) Establishing relationships with early intervention and early childhood programs or schools to serve as sites for field or clinical experiences needed to support the project. These sites may include high-need local educational agencies (LEAs),⁵ high-poverty schools,⁶ schools identified for comprehensive support and improvement,⁷ and schools implementing a targeted support and improvement plan ⁸ for children with disabilities; early childhood and early intervention programs located within the geographic boundaries of a high-need LEA; and early childhood and early intervention programs located within the geographical boundaries of an LEA serving the highest percentage of schools identified for comprehensive support and improvement or implementing targeted support and improvement plans in the State.

⁵ For the purposes of this priority, “high-need LEA” means an LEA (a) that serves not fewer than 10,000 children from families with incomes below the poverty line; or (b) for which not less than 20 percent of the children are from families with incomes below the poverty line.

⁶ For the purposes of this priority, “high-poverty school” means a school in which at least 50 percent of students are from low-income families as determined using one of the measures of poverty specified in section 1113(a)(5) of the Elementary and Secondary Education Act of 1965, as amended (ESEA). For middle and high schools, eligibility may be calculated on the basis of comparable data from feeder schools. Eligibility as a high-poverty school under this definition is determined on the basis of the most currently available data.

⁷ For the purposes of this priority, “school implementing a comprehensive support and improvement plan” means a school identified for comprehensive support and improvement by a State under section 1111(c)(4)(D) of the ESEA that includes (a) not less than the lowest performing 5 percent of all schools in the State receiving funds under title I, part A of the ESEA; (b) all public high schools in the State failing to graduate one third or more of their students; and (c) public schools in the State described in section 1111(d)(3)(A)(i)(II) of the ESEA.

⁸ For the purposes of this priority, “school implementing a targeted support and improvement plan” means a school identified for targeted support and improvement by a State that has developed and is implementing a school-level targeted support and improvement plan to improve student outcomes based on the indicators in the statewide accountability system defined in section 1111(d)(2) of the ESEA.

In addition to requesting up to $100,000 for planning, additional Federal funds may also be requested for scholar support and other grant activities occurring in year one of the project.

Note: Applicants proposing projects to develop, expand, or add a new area of emphasis to related services programs must provide, in their applications, information on how these new areas will be sustained once Federal funding ends.

Note: Project periods under this priority may be up to 60 months. Projects should be designed to ensure that all proposed scholars successfully complete the program within 60 months from the start of the project. The Secretary may reduce continuation awards for any project in which scholar recruitment is not on track or scholars are not on track to complete the program within the 60 months.

To be considered for funding under this absolute priority, all program applicants must meet the requirements contained in this priority.

To meet the requirements of this priority, an applicant must—

(a) Demonstrate, in the narrative section of the application under “Significance,” how—

(1) The proposed project will address the need in the proposed preparation focus area to prepare related services personnel who are fully qualified to serve children with disabilities who have high-intensity needs;

(2) The proposed project will increase the number of personnel in the proposed preparation focus area who demonstrate the competencies ⁹ needed to—

⁹ For the purposes of this priority, “competencies” means what a person knows and can do—the knowledge, skills, and dispositions necessary to effectively function in a role (National Professional Development Center on Inclusion, 2011).

(i) Promote high expectations and improve outcomes for children with disabilities who have high-intensity needs;

(ii) Provide intensive, evidence-based ¹⁰ individualized interventions in person and through distance learning technologies in a variety of early intervention, early childhood, and school settings (e.g., natural environments; public schools, including charter schools; private schools; and other nonpublic education settings, including home education);

¹⁰ For the purposes of this priority, “evidence-based” means, at a minimum, evidence that demonstrates a rationale (as defined in 34 CFR 77.1), where a key project component (as defined in 34 CFR 77.1) included in the project's logic model (as defined in 34 CFR 77.1) is informed by research or evaluation findings that suggest the project component is likely to improve relevant outcomes (as defined in 34 CFR 77.1).

(iii) Provide culturally and linguistically responsive interventions and services;

(iv) Collaborate with diverse partners, including multilingual individuals, individuals and families from racially and ethnically diverse backgrounds, and individuals with disabilities, using a multidisciplinary team approach to address the individualized developmental, learning, and academic needs of children with disabilities who have high-intensity needs, and support their successful transitions from early childhood to elementary, elementary to secondary, or transition to postsecondary education and the workforce; and

(v) Exercise leadership to improve professional practice and services and education for children with disabilities who have high-intensity needs; and

(3) The applicant has successfully graduated students from their program, including students with disabilities, multilingual students, and students who are from racially, and ethnically diverse backgrounds, by including data disaggregated by disability status, race, national origin, and primary language(s), and the number of students who have graduated in the last five years.

(b) Demonstrate, in the narrative section of the application under “Quality of project services,” how—

(1) The project will conduct its planning activities, if the applicant elects to use up to the first 12 months of the project period and up to $100,000 awarded in the first budget period for planning;

(2) The project will recruit and retain scholars. To meet this requirement, the applicant must describe—

(i) The selection criteria the project will use to identify applicants for admission in the program;

(ii) The specific recruitment strategies the project will use to attract a diverse pool of applicants, including from groups that are traditionally underrepresented in the field, applicants with disabilities, multilingual applicants, and applicants from racially and ethnically diverse backgrounds; and

Note: Applicants should engage in focused outreach and recruitment to increase the number of applicants from groups that are traditionally underrepresented in the field, including applicants with disabilities, multilingual applicants, and applicants from racial and ethnic diversity backgrounds, but the selection criteria the applicant intends to use must ensure equal access and treatment of all applicants seeking admission to the program and must be consistent with applicable law, including Federal civil rights law.

(iii) The approach that will be used to mentor and support all scholars, including any specific approaches to supporting scholars from groups that are traditionally underrepresented in the field, including individuals with disabilities, multilingual scholars, and scholars from racially and ethnically diverse backgrounds, for retention and completion of the program within the project period and preparing them for careers in early intervention, special education, and related services; and

(3) The project will be designed to promote the acquisition of the competencies needed by related services personnel to support improved outcomes for children with disabilities with high-intensity needs. To address this requirement, the applicant must—

(i) Describe how the proposed components, such as coursework; field or clinical experiences in early intervention, early childhood, and school settings; work-based experiences; or other opportunities provided to scholars, and sequence of the project components will enable the scholars to acquire the competencies needed by personnel working with children with disabilities with high-intensity needs;

(ii) Describe how the proposed project will implement current evidence-based practices (EBPs) to prepare scholars to provide effective and equitable, evidence-based, and culturally and linguistically responsive instruction, interventions, and services that improve outcomes for children with disabilities with high-intensity needs, in a variety of early childhood and early intervention or educational settings, including in-person and remote settings; and

(iii) Describe how the proposed project will engage partners, including: multilingual individuals and individuals and families of color; public or private partnering agencies, schools, or programs; centers or organizations that provide services to children with disabilities and their families; and individuals with disabilities and their families, to inform and support project components.

(c) Demonstrate, in the narrative section of the application under “Quality of the project personnel and management plan,” how—

(1) The project director and other key project personnel are qualified to prepare scholars in the project's preparation focus area;

(2) The project director and other key project personnel will manage the components of the project; and

(3) The time commitments of the project director and other key project personnel are adequate to meet the objectives of the proposed project.

(d) Demonstrate, in the narrative section of the application under “Adequacy of resources,” how—

(1) Information regarding the types of accommodations and resources available to fully support scholars' well-being and a work-life balance (e.g., university and community mental health supports, counseling services, health resources, housing resources, child care) will be disseminated and how the project will support scholars to access those accommodations and resources on a timely basis, if needed, while the scholar is in the program;

(2) The types of accommodations and resources provided to support scholars' well-being and a work-life balance will be individualized based on scholars' cultural, academic, social emotional, and disability-related needs with the goal of supporting them to complete the program; and

(3) The budget is adequate for meeting the project objectives and mitigating financial burden to scholars in completing the program of study.

Note: Scholar support does not need to be uniform for all scholars and should be customized for individual scholars based on scholars' financial needs, including consideration of all costs associated with the cost of attendance, even if that means enrolling fewer scholars. Scholar support can include support for cost of attendance (e.g., tuition and fees; university student health insurance; an allowance for books, materials, and supplies; an allowance for miscellaneous personal expenses; an allowance for dependent care, such as child care; and/or an allowance for room and board), travel in conjunction with training assignments including conference registration, and stipends to support scholars' completion of the program. Projections for scholar support should consider tuition increases and cost of living increases over the project period.

(e) Demonstrate, in the narrative section of the application under “Quality of the project evaluation,” how the applicant will—

(1) Evaluate how well the goals or objectives of the proposed project have been met. To meet this requirement, the applicant must describe—

(i) The outcomes to be measured for both the project and the scholars, particularly the acquisition of scholars' competencies; and

(ii) The evaluation methodologies, data collection methods, and data analyses that will be used; and

(2) Collect, analyze, and use data on scholars supported by the project to inform the project on an ongoing basis.

(f) Demonstrate, in the appendices or narrative under “Required project assurances” as directed, that the following requirements are met. The applicant must—

(1) Include in Appendix A of the application—

(i) Charts, tables, figures, graphs, screen shots, and visuals that provide information directly relating to the application requirements for the narrative. Appendix A should not be used for supplementary information. Please note that charts, tables, figures, graphs, and screen shots can be single-spaced when placed in Appendix A; and

(ii) A letter of support from a public or private partnering agency, school, or program, that states it will provide scholars with a field or clinical experience in a high-need LEA, a high-poverty school, a school implementing a comprehensive support and improvement plan, a school implementing a targeted support and improvement plan for children with disabilities, a State educational agency, an early childhood or early intervention program located within the geographical boundaries of a high-need LEA, or an early childhood or early intervention program located within the geographical boundaries of an LEA serving the highest percentage of schools identified for comprehensive support and improvement or implementing targeted support and improvement plans in the State;

(2) Include in Appendix B of the application—

(i) A table that lists the project's required coursework and includes the course title, brief description, learning goals, and relevant State or national professional organization personnel standards for each course;

(ii) Four exemplar course syllabi required by the degree program that reflect EBPs across the areas of assessment; social, emotional, and behavior development and learning; inclusive practices; instructional strategies; and literacy, as appropriate, and consider the unique needs of children of color with disabilities and children with disabilities who are multilingual;

(3) Include in the application budget attendance by the project director at a three-day project directors' meeting in Washington, DC, during each year of the project; and

(4) Provide an assurance that—

(i) The project will meet the requirements in 34 CFR 304.23, particularly those related to (A) informing all scholarship recipients of their service obligation commitment; and (B) disbursing scholarships. Failure by a grantee to properly meet these requirements is a violation of the grant award that may result in the grantee being liable for returning any misused funds to the Department;

(ii) The project will meet the statutory requirements in section 662(e) through (h) of IDEA;

(iii) The project will be operated in a manner consistent with nondiscrimination requirements contained in Federal civil rights laws;

(iv) All the syllabi for the project's required coursework will be provided if requested by OSEP;

(v) At least 65 percent of the total award over the project period (i.e., up to 60 months) will be used for scholar support;

(vi) Scholar support provided by the project (e.g., tuition and fees; university student health insurance; an allowance for books, materials, and supplies; an allowance for miscellaneous personal expenses; an allowance for dependent care, such as child care; and an allowance for room and board) is not based on the condition that the scholar work for the grantee (e.g., personnel at the IHE);

(vii) The project director, key personnel, and scholars will actively participate in learning opportunities (e.g., webinars, briefings) supported by OSEP. This is intended to promote opportunities for participants to understand reporting requirements, share resources, and generate new knowledge by addressing topics of common interest to participants across projects including Department priorities and needs in the field;

(viii) The project website, if applicable, will be of high quality, with an easy-to-navigate design that meets government or industry-recognized standards for accessibility;

(ix) Scholar accomplishments (e.g., public service, awards, publications, conference presentations) will be reported in annual and final performance reports; and

(x) Annual data will be submitted on each scholar who receives grant support (OMB Control Number 1820-0686). The primary purposes of the data collection are to track the service obligation fulfillment of scholars who receive funds from OSEP grants and to collect data for program performance measure reporting under 34 CFR 75.110. Data collection includes the submission of a signed, completed pre-scholarship agreement and exit certification for each scholar funded under an OSEP grant (see paragraph (f)(4)(i) of this priority). Applicants are encouraged to visit the Personnel Development Program Data Collection System website at https://pdp.ed.gov/osep for further information about this data collection requirement.

Competitive Preference Priority: Within this absolute priority, we give competitive preference to applications that address the following priority. Under 34 CFR 75.105(c)(2)(i), we award an additional 3 points to an application that meets the competitive preference priority. Applicants should indicate in the abstract if they are addressing the competitive preference priority.

This priority is:

Applications from New Potential Grantees (0 or 3 points).

(a) Under this priority, an applicant must demonstrate that the applicant (e.g., the IHE) has not had an active discretionary grant under ALN 84.325R, ALN 84.325M, or ALN 84.325K funded in the last five years before the deadline date for submission of applications under this program (ALN 84.325R).

(b) For the purpose of this priority, a grant is active until the end of the grant's project or funding period, including any extensions of those periods that extend the grantee's authority to obligate funds.

References

American Physical Therapy Association. (2020). APTA physical therapy workforce analysis. www.apta.org/contentassets/5997bfa5c8504df789fe4f1c01a717eb/apta-workforce-analysis-2020.pdf.

American-Speech-Language-Hearing Association. (2019, July). A demographic snapshot of SLPs. The ASHA Leader, 24(7), 32. https://leader.pubs.asha.org/doi/10.1044/leader.AAG.24072019.32.

Boe, E.E., deBettencourt, L., Dewey, J.F., Rosenberg, M.S., Sindelar, P.T., & Leko, C.D. (2013). Variability in demand for special education teachers: Indicators, explanations, and impacts. Exceptionality, 21(2), 103-125.

Browder, D.M., Wood, L., Thompson, J., & Ribuffo, C. (2014). Evidence-based practices for students with severe disabilities (Document No. IC-3). http://ceedar.education.ufl.edu/tool/innovation-configurations/.

Bryan, N. (2021, May 26). Black male teachers and gender equity in early childhood education. Oxford Research Encyclopedia of Education. https://doi.org/10.1093/acrefore/9780190264093.013.1565.

Bureau of Labor Statistics, U.S. Department of Labor. (2023). Occupational Outlook Handbook. www.bls.gov/ooh/healthcare/.

Carver-Thomas, D. (2018, April). Diversifying the teaching profession through high-retention pathways [Research brief]. Learning Policy Institute. https://learningpolicyinstitute.org/media/164/download?inline&file=Diversifying_Teaching_Profession_BRIEF.pdf.

IDEA Infant and Toddler Coordinators Association. (2021). Tipping points survey: Demographics, challenges, and opportunities. www.ideainfanttoddler.org/pdf/2021-Tipping-Points-Survey.pdf.

McLeskey, J., & Brownell, M. (2015). High-leverage practices and teacher preparation in special education (Document No. PR-1). http://ceedar.education.ufl.edu/wp-content/uploads/2016/05/High-Leverage-Practices-and-Teacher-Preparation-in-Special-Education.pdf.

National Association of School Psychologists. (2021). Shortages in school psychology: Challenges to meeting the growing needs of U.S. students and schools [Research summary]. www.nasponline.org/research-and-policy/research-center/school-psychology-workforce.

National Coalition on Personnel Shortages in Special Education. (n.d.) About the shortage. https://specialedshortages.org/about-the-shortage/.

National Professional Development Center on Inclusion. (2011, June). Competencies for early childhood educators in the context of inclusion: Issues and guidance for States. The University of North Carolina, FPG Child Development Institute. https://fpg.unc.edu/sites/fpg.unc.edu/files/resource-files/FPG_NPDCI_Competencies_2011.pdf.

Waiver of Proposed Rulemaking: Under the Administrative Procedure Act (APA) (5 U.S.C. 553) the Department generally offers interested parties the opportunity to comment on proposed priorities. Section 681(d) of IDEA, however, makes the public comment requirements of the APA inapplicable to the priorities in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 304.

Note: The regulations in 34 CFR part 86 apply to IHEs only.

II. Award Information

Type of Award: Discretionary grants.

Estimated Available Funds: The Administration has requested $115,000,000 for the Personnel Development to Improve Services and Results for Children with Disabilities program for FY 2024, of which we intend to use an estimated $5,000,000 for this competition. The actual level of funding, if any, depends on final congressional action. However, we are inviting applications to allow enough time to complete the grant process if Congress appropriates funds for this program.

Contingent upon the availability of funds and the quality of applications, we may make additional awards in FY 2025 from the list of unfunded applications from this competition.

Estimated Range of Awards: $1,150,000-$1,250,000.

Estimated Average Size of Awards: $1,200,000.

Maximum Award: We will not make an award exceeding $1,250,000 per project for a project period of 60 months or an award that exceeds $350,000 for any single budget period.

Note: Applicants must describe, in their applications, the amount of funding being requested for each 12-month budget period.

Estimated Number of Awards: 20.

Project Period: Up to 60 months.

Note: The Department is not bound by any estimates in this notice.

III. Eligibility Information

1. Eligible Applicants: Eligible applicants are IHEs and private nonprofit organizations.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2.a. Cost Sharing or Matching: Cost sharing or matching is not required for this competition.

b. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see https://www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and public agencies. The grantee may award subgrants to entities it has identified in an approved application or that it selects through a competition under procedures established by the grantee, consistent with 34 CFR 75.708(b)(2).

4. Other General Requirements:

a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/content/pkg/FR-2022-12-07/pdf/2022-26554.pdf, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you limit the application narrative to no more than 40 pages and use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (10 points).

(1) The Secretary considers the significance of the proposed project.

(2) In determining the significance of the proposed project, the Secretary considers the following factors:

(i) The extent to which the proposed project will prepare personnel for fields in which shortages have been demonstrated; and

(ii) The importance or magnitude of the results or outcomes likely to be attained by the proposed project, especially improvements in teaching and student achievement.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practice;

(ii) The extent to which the training or professional development services to be provided by the proposed project are of sufficient quality, intensity, and duration to lead to improvements in practice among the recipients of those services;

(iii) The extent to which the services to be provided by the proposed project involve the collaboration of appropriate partners for maximizing the effectiveness of project services; and

(iv) The extent to which the proposed activities constitute a coherent, sustained program of training in the field.

(c) Quality of project personnel and quality of the management plan (20 points).

(1) The Secretary considers the quality of the project personnel and the quality of the management plan.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The adequacy of the management plan to achieve the objectives of the proposed project on time and within budget, including clearly defined responsibilities, timelines, and milestones for accomplishing project tasks; and

(iii) The extent to which the time commitments of the project director and principal investigator and other key project personnel are appropriate and adequate to meet the objectives of the proposed project.

(d) Adequacy of resources (20 points).

(1) The Secretary considers the adequacy of resources of the proposed project.

(2) In determining the adequacy of resources of the proposed project, the Secretary considers the following factors:

(i) The adequacy of support, including facilities, equipment, supplies, and other resources, from the applicant organization or the lead applicant organization; and

(ii) The extent to which the costs are reasonable in relation to the objectives, design, and potential significance of the proposed project.

(e) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project; and

(ii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, the Department has established a set of performance measures, including long-term measures, that are designed to yield information on various aspects of the effectiveness and quality of the Personnel Development to Improve Services and Results for Children with Disabilities program. These measures include (1) the percentage of preparation programs that incorporate scientifically based practices or EBPs into their curricula; (2) the percentage of scholars completing the preparation program who are knowledgeable and skilled in EBPs that improve outcomes for children with disabilities; (3) the percentage of scholars who exit the preparation program prior to completion due to poor academic performance; (4) the percentage of scholars completing the preparation program who are working in the area(s) in which they were prepared upon program completion; (5) the Federal cost per scholar who completed the preparation program; (6) the percentage of scholars who completed the preparation program and are employed in high-need districts; and (7) the percentage of scholars who completed the preparation program and who are rated effective by their employers.

In addition, the Department will gather information on the following outcome measures: the number and percentage of scholars proposed by the grantee in their application that were actually enrolled and making satisfactory academic progress in the current academic year; the number and percentage of enrolled scholars who are on track to complete the training program by the end of the project's original grant period; and the percentage of scholars who completed the preparation program and are employed in the field of special education for at least two years.

Grantees may be asked to participate in assessing and providing information on these aspects of program quality.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2023-25307 Filed 11-15-23; 8:45 am]

BILLING CODE 4000-01-P